DEPARTMENT OF AGRICULTURE

Submission for OMB Review; Comment Request

November 5, 2008.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility, and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Animal Identification System.

OMB Control Number: 0579-0259.

Summary of Collection: The Animal and Plant Health Inspection Service (APHIS) regulates the importation and interstate movement of animals and animal products and conducts various other activities to protect the health of our Nation's livestock and poultry. The advent of increased animal disease outbreaks around the globe over the past decade, especially the recent BSE-positive cow found in Washington State, has intensified the public interest in developing a national animal identification program for the purpose of protecting animal health. Fundamental to controlling any disease threat, foreign or domestic, to the Nation's animal resources is to have a system that can identify individual animals or groups, the premises where they are located, and the date of entry to each premises. A national animal identification system is being implemented by APHIS at present on a voluntary basis. It is intended to identify all livestock, as well as record their movements over the course of their lifespan.

Need and Use of the Information: APHIS goal is to create an effective, uniform, consistent, and efficient system that when fully implemented, will allow traces to be completed within 48 hours of detection of a disease, ensuring rapid containment of the disease. Successful implementation of the animal identification and tracking systems will depend on the effective use of three primary information collection activities: Premises and nonproducer participants identification records, individual animal identification transaction records, and group/lot transaction records that will be created and maintained through various industry and Government collaborative efforts. Failing to collect the needed information would make it impossible to conduct a timely traceback of animals potentially exposed to a disease of concern.

Description of Respondents: Business or other for-profit; State, Local or Tribal Government.

Number of Respondents: 500,472.

Frequency of Responses: Recordkeeping;

Reporting: On occasion.

Total Burden Hours: 2,832,437.

Animal and Plant Health Inspection Service

Title: Importation of Fruits and Vegetables.

OMB Control Number: 0579-0264.

Summary of Collection: Under the Plant Protection Act (7 U.S.C. 7701-7772), the Secretary of Agriculture is authorized to regulate the importation of plants, plant products, and other articles to prevent the introduction of injurious plant pests. Regulations contained in Title 7 of the Code of Federal Regulations, Part 319 (Subpart—Fruit and Vegetables), Sections 319.56 et seq., implement the intent of the this Act by prohibiting or restricting the importation of certain fruits and vegetables into the United States from certain parts of the world to prevent the introduction and dissemination of fruit flies and other injurious plant pests that are new to the United States or not widely distributed within the United States. These regulations are enforced by the Plant Protection and quarantine, a program with USDA's Animal and Plant Health Inspection Service (APHIS).

Need and Use of the Information: The use of certain information collection activities including phytosanitary certificates, fruit fly monitoring records, and cooperative agreements will be used to allow the entry of certain fruits and vegetables into the United States. Without the information all shipments would need to be inspected very thoroughly, thereby requiring considerably more time and would slow the clearance of international shipments.

Description of Respondents: Business or other for-profit; Federal Government.

Number of Respondents: 15.

Frequency of Responses: Recordkeeping;

Reporting: On occasion.

Total Burden Hours: 123.

Ruth Brown,
Departmental Information Collection Clearance Officer.

[FR Doc. E8-26743 Filed 11-10-08; 8:45 am]

BILLING CODE 3410-34-P